DEPARTMENT OF THE TREASURY

Agency Information Collection Activities; Submission for OMB Review; Comment Request; The Community Development Financial Institutions Program—Certification Application

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 22, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

The Community Development Financial Institutions (CDFI)

Title: The Community Development Financial Institutions Program—Certification Application.

OMB Control Number: 1559-0028.

Type of Review: Revision of a currently approved collection.

Description: The certification application will be used to determine whether an entity seeking CDFI certification or recertification meets the Fund's requirements for such certification as set forth in 12 CFR 1805.201.

Form: CDFI Form 0005.

Affected Public: Not-for-profit institutions, State, Local and Tribal governments.

Estimated Number of Respondents: 305.

Frequency of Response: On Occasion.

Estimated Total Number of Annual Responses: 11,438.

Estimated Time per Response: 37.5 hours per response.

Estimated Total Annual Burden Hours: 11,438.

Authority: 44 U.S.C. 3501 et seq.

Dated: December 18, 2018.
Spencer W. Clark,
Treasury PRA Clearance Officer.

[FR Doc. 2018-27752 Filed 12-20-18; 8:45 am]

BILLING CODE 4810-70-P